DEPARTMENT OF THE TREASURY

Agency Information Collection Activities; Submission for OMB Review; Comment Request; Multiple IRS Information Collection Requests

AGENCY: Departmental Offices, U.S. Department of the Treasury.

ACTION: Notice.

SUMMARY: The Department of the Treasury will submit the following information collection request(s) to the Office of Management and Budget (OMB) for review and clearance in accordance with the Paperwork Reduction Act of 1995, on or after the date of publication of this notice. The public is invited to submit comments on the collection(s) listed below.

DATES: Comments should be received on or before June 21, 2017 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8142, Washington, DC 20220, or email at PRA@treasury.gov.

FOR FURTHER INFORMATION CONTACT: Copies of the submissions may be obtained by emailing PRA@treasury.gov, calling (202) 622-0489, or viewing the entire information collection request at www.reginfo.gov.

SUPPLEMENTARY INFORMATION:

Internal Revenue Service (IRS)

Title: Form 2032—Contract Coverage Under Title II of the Social Security Act.

OMB Control Number: 1545-0137.

Type of Review: Extension without change of a currently approved collection.

Abstract: U.S. citizens and resident aliens employed abroad by foreign affiliates of American employers are exempt from social security taxes. Under Internal Revenue Code section 3121(1), American employers may file an agreement on Form 2032 to waive this exemption and obtain social security coverage for U.S. citizens and resident aliens employed abroad by their foreign affiliates. The American employers can later file Form 2032 to cover additional foreign affiliates as an amendment to their original agreement.

Form: 2032.

Affected Public: Individuals or Households.

Estimated Total Annual Burden Hours: 158.

Title: Form 4562—Depreciation and Amortization (Including Information on Listed Property).

OMB Control Number: 1545-0172.

Type of Review: Extension without change of a currently approved collection.

Abstract: Taxpayers use Form 4562 to: claim a deduction for depreciation and/or amortization; make a section 179 election to expense depreciable assets; and answer questions regarding the use of automobiles and other listed property to substantiate the business use under section 274(d).

Form: 4562.

Affected Public: Businesses or other for-profits.

Estimated Total Annual Burden Hours: 488,368,447.

Title: Application for Reward for Original Information.

OMB Control Number: 1545-0409.

Type of Review: Form 211 is the official application form used by persons requesting rewards for submitting information concerning alleged violations of the tax laws by other persons. Such rewards are authorized by Internal Revenue Code Section 7623. The data is used to determine and pay rewards to those persons who voluntarily submit information.

Form: 211.

Affected Public: Individuals or Households.

Estimated Total Annual Burden Hours: 15,000.

Title: 26 CFR 31.6001-1 Records in general; 26 CFR 31.6001-2 Additional Records under FICA; 26 CFR 31.6001-3, Additional records under Railroad Retirement Tax Act; 26 CFR 31.6001-5 Additional records.

OMB Control Number: 1545-0798.

Type of Review: IRC section 6001 requires, in part, that every person liable for tax, or for the collection of that tax keep such records and comply with such rules and regulations as the Secretary may from time to time prescribe. 26 CFR 31.6001 has special application to employment taxes. These records are needed to ensure compliance with the Code.

Form: None.

Affected Public: Businesses or other for-profits.

Estimated Total Annual Burden Hours: 30,275,950.

Title: TD 8556 (Final)—Computation and Characterization of Income and Earnings and Profits Under the Dollar Approximate Separate Transactions Method of Accounting (DASTM).

OMB Control Number: 1545-1051.

Type of Review: Extension without change of a currently approved collection.

Abstract: For taxable years after the final regulations are effective, taxpayers operating in hyperinflationary currencies must use the U.S. dollar as their functional currency and compute income using the dollar approximate separate transactions method (DASTM). Small taxpayers may elect an alternate method by which to compute income or loss. For prior taxable years in which income was computed using the profit and loss method, taxpayers may elect to recompute their income using DASTM.

Form: None.

Affected Public: Businesses or other for-profits.

Estimated Total Annual Burden Hours: 1,000.

Title: Application for Extension of Time to File Information Returns.

OMB Control Number: 1545-1081.

Type of Review: Extension without change of a currently approved collection.

Abstract: Form 8809 is used to request an extension of time to file Forms W-2, W-2G, 1042-S, 1094-C, 1095, 1097, 1098, 1099, 3921, 3922, 5498, and 8027. The IRS reviews the information contained on the form to determine whether an extension should be granted.

Form: 8809.

Affected Public: Businesses or other for-profits.

Estimated Total Annual Burden Hours: 237,000.

Title: PS-19-92 (TD 9420-Final) Carryover Allocations and Other Rules Relating to the Low-Income Housing Credit.

OMB Control Number: 1545-1102.

Type of Review: Extension without change of a currently approved collection.

Abstract: This document contains final regulations that amend the utility allowances regulations concerning the low-income housing tax credit. The final regulations update the utility allowance regulations to provide new options for estimating tenant utility costs. The final regulations affect owners of low-income housing projects who claim the credit, the tenants in those low-income housing projects, and the State and local housing credit agencies that administer the credit.

Form: None.

Affected Public: Businesses or other for-profits.

Estimated Total Annual Burden Hours: 4,008.

Title: Capitalization of Interest.

OMB Control Number: 1545-1265.

Type of Review: Extension without change of a currently approved collection.

Abstract: The regulations require taxpayers to maintain contemporaneous written records of estimates, to file a ruling request to segregate activities in applying the interest capitalization rules, and to request the consent of the Commissioner to change their methods of accounting for the capitalization of interest.

Form: None.

Affected Public: Individuals or Households.

Estimated Total Annual Burden Hours: 116,767.

Title: Collection of Qualitative Feedback on Agency Service Delivery.

OMB Control Number: 1545-2256.

Type of Review: Extension without change of a currently approved collection.

Abstract: This collection of information is necessary to enable the Agency to garner customer and stakeholder feedback in an efficient, timely manner, in accordance with our commitment to improving service delivery. The information collected from our customers and stakeholders will help ensure that users have an effective, efficient, and satisfying experience with the Agency's programs.

Form: None.

Affected Public: Individuals or Households.

Estimated Total Annual Burden Hours: 266,680.

Authority: 44 U.S.C. 3501 et seq.

Dated: May 17, 2017.
Jennifer P. Leonard,
Treasury PRA Clearance Officer.

[FR Doc. 2017-10359 Filed 5-19-17; 8:45 am]

BILLING CODE 4830-01-P